DEPARTMENT OF ENERGY

Federal Energy Regulatory Commission

[Docket No. RP03-475-000]

Venice Gathering System, L.L.C.; Notice of Compliance Filing

May 14, 2003.

Take notice that on May 9, 2003, Venice Gathering System, L.L.C. (Venice) tendered for filing as part of its FERC Gas Tariff, Original Volume No. 1, the following tariff sheets to become effective July 1, 2003, except for those identified with an asterisk, which are to become effective May 1, 2004:

Fourth Revised Sheet No. 49

Third Revised Sheet No. 119*

Fourth Revised Sheet No. 122*

First Revised Sheet No. 122A*

Fourth Revised Sheet No. 123*

First Revised Sheet No. 123A*

Second Revised Sheet No. 185

First Revised Sheet No. 191

Fifth Revised Sheet No. 192

Sixth Revised Sheet No. 192*

Fifth Revised Sheet No. 196

Sixth Revised Sheet No. 196*

Third Revised Sheet No. 197

Fourth Revised Sheet No. 197*

First Revised Sheet No. 198*

Original Sheet No. 199*

Venice states that these proposed tariff sheets are intended to comply with the Commission's Order No. 587-R. In particular, Venice states that the proposed tariff changes provide for the adoption of NAESB Standards Version 1.6, and the WGQ standards governing partial day recalls.

Venice further states that certain of the tariff changes required under Order No. 587-R cannot be made effective on July 1, 2003, due to delays in the delivery of the software necessary to implement such changes. Venice states that the vendor has indicated that necessary software will be delivered on or before March 31, 2004. Accordingly, Venice has submitted tariff sheets with a proposed effective date of July 1, 2003, for all Version 1.6 changes that are not dependent upon the new software; those tariff changes that cannot be implemented until receipt of the new software bear a proposed effective date of May 1, 2004. The May 1, 2004, effective date is proposed because, according to Venice, approximately one month additional time will be required to test and implement the new software.

Venice states that copies of the filing have been mailed to each customers and interested state commission.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 21, 2003.

Magalie R. Salas,
Secretary.

[FR Doc. 03-12626 Filed 5-19-03; 8:45 am]

BILLING CODE 6717-01-P